U.S.-CHINA ECONOMIC AND SECURITY REVIEW COMMISSION

Notice of Open Public Hearing

AGENCY: U.S.-China Economic and Security Review Commission.

ACTION: Notice of Official Public Release of the Commission's 2015 Annual Report to Congress on November 18, 2015, Washington, DC.

SUMMARY: Notice is hereby given of the following public hearing of the U.S.-China Economic and Security Review Commission.

Name: William A. Reinsch, Chairman of the U.S.-China Economic and Security Review Commission. The Commission is mandated by Congress to investigate, assess, and report to Congress annually on “the national security implications of the economic relationship between the United States and the People's Republic of China.” Pursuant to this mandate, the Commission will hold an official public release of the Commission's 2015 Annual Report to Congress on November 18, 2015.

Purpose of Meeting: Pursuant to this mandate, the Commission will hold an official public conference in Washington, DC to release the 2015 Annual Report on November 18, 2015.

The Commission is subject to the Federal Advisory Committee Act (FACA) with the enactment of the Science, State, Justice, Commerce and Related Agencies Appropriations Act, 2006 that was signed into law on November 22, 2005 (Public Law 109-108). In accord with FACA, meetings of the Commission to make decisions concerning the substance and recommendations of its 2015 Annual Report to Congress are open to the public.

Topics Addressed:

The Commission's 2015 Annual Report contains the following chapters and sections:

Chapter 1: U.S.-China Economic and Trade Relations

Section 1: Year in Review: Economics and Trade

Section 2: Foreign Investment Climate in China

Section 3: China's State-Led Market Reform and Competitiveness Agenda

Section 4: Commercial Cyber Espionage and Barriers to Digital Trade in China

Chapter 2: Security and Foreign Policy Issues Involving China

Section 1: Year in Review: Security and Foreign Affairs

Section 2: China's Space and Counterspace Programs

Section 3: China's Offensive Missile Forces

Chapter 3: China and the World

Section 1: China and Central Asia

Section 2: China and Southeast Asia

Section 3: Taiwan

Section 4: Hong Kong

Location, Date and Time: Room TBA. Wednesday, November 18, 2015, Time TBA. Please check our Web site, www.uscc.gov, for possible changes to the public meeting and for information on the meeting location.

Reservations are not required to attend the hearing.

FOR FURTHER INFORMATION CONTACT: Any member of the public seeking further information concerning the hearing should contact Anthony DeMarino, 444 North Capitol Street NW., Suite 602, Washington, DC 20001; phone: 202-624-1496, or via email at ADeMarino@uscc.gov. Reservations are not required to attend the hearing.

Authority: Congress created the U.S.-China Economic and Security Review Commission in 2000 in the National Defense Authorization Act (Public Law 106-398), as amended by Division P of the Consolidated Appropriations Resolution, 2003 (Public Law 108-7), as amended by Public Law 109-108 (November 22, 2005), as amended by Public Law 113-291 (December 19, 2014).

Dated: October 29, 2015.
Michael Danis,
Executive Director, U.S.-China Economic and Security Review Commission.

[FR Doc. 2015-28055 Filed 11-3-15; 8:45 am]

BILLING CODE 1137-00-P